DEPARTMENT OF TRANSPORTATION

Federal Transit Administration

Notice of Meeting of the Transit Rail Advisory Committee for Safety (TRACS)

AGENCY: Federal Transit Administration, DOT.

ACTION: Notice of meeting.

SUMMARY: This notice announces a public meeting of the Transit Rail Advisory Committee for Safety (TRACS). TRACS is a Federal Advisory Committee established by the Secretary of Transportation in accordance with the Federal Advisory Committee Act to provide information, advice, and recommendations to the Secretary and the Federal Transit Administrator on matters relating to the safety of public transportation systems.

DATES: The TRACS meeting will be held on September 20, 2012, from 8:30 a.m. to 5 p.m., and September 21, 2012, from 8:30 a.m. to 12:00 p.m. Contact Iyon Rosario (see contact information below) by September 13, 2012, if you wish to be added to the visitor's list to gain access to the Washington Navy Yard Conference Center.

ADDRESSES: The meeting will be held at the Washington Navy Yard Conference Center (Navy Yard), Building 211, 1454 Parsons Avenue SE., Washington, DC 20374. Attendees who are on the visitor's/security list can access all three gates (6th St, 9th St, 11th St) by presenting a photo ID to gain entrance to the Navy Yard. The gate in closest proximity to the Washington Navy Yard Conference Center is the gate located on 9th and M Streets, SE. Although this meeting is open to the public, the Navy Yard is a secure government facility. Attendees (both pedestrians and vehicle driver) who have not pre-registered with FTA, must use the Visitor's Gate at 11th and O Streets, SE.

SUPPLEMENTARY INFORMATION: This notice is provided in accordance with the Federal Advisory Committee Act (Pub. L. 92-463, 5 U.S.C. App. 2). As noted above, TRACS is a Federal Advisory Committee established to provide information, advice, and recommendations to the Secretary of Transportation and the Administrator of the Federal Transit Administration (FTA) on matters relating to the safety of public transportation systems. TRACS is composed of 24 members representing a broad base of expertise necessary to discharge its responsibilities. The first meeting of TRACS was held on September 9-10, 2010, the second meeting of TRACS was held on April 27-28, 2011, and the third meeting of TRACS was held on February 23-24, 2012. The tentative agenda for the fourth meeting of TRACS is set forth below:

Agenda

September 20-21, 2012

(1) Welcome Remarks/Introductions

(2) Facility Use/Safety Briefing

(3) MAP-21 Presentation

(4) Recap of TRACS Activities

(5) Future TRACS Activities/Deliverables

(6) Public Comments

(7) Wrap Up

As previously noted, this meeting will be open to the public; however, the Navy Yard is a secured facility and persons wishing to attend must contact Iyon Rosario, Office of Safety and Security, Federal Transit Administration, (202) 366-2010; or at TRACS@dot.gov by close of business September 13, 2012, to have your name added to the security list. Members of the public who wish to make an oral statement at the meeting or seeking special accommodations, are also directed to make a request to Iyon Rosario, Office of Safety and Security, Federal Transit Administration; (202) 366-2010; at TRACS@dot.gov on or before the close of business September 13, 2012. Provisions will be made to include oral statements on the agenda, if needed. Members of the public may submit written comments or suggestions concerning the activities of TRACS at any time before or after the meeting at TRACS@dot.gov; or to U.S. Department of Transportation, Federal Transit Administration, Office of Safety and Security, Room E45-312, 1200 New Jersey Avenue SE., Washington, DC 20590, Attention: Iyon Rosario. Information from the meeting will be posted on FTA's public Web site at http://www.fta.dot.gov on the TRACS Meeting Minutes page. Written comments submitted to TRACS will also be posted at the above web address.

Issued on: September 4, 2012.
Peter Rogoff,
Administrator.

[FR Doc. 2012-22075 Filed 9-6-12; 8:45 am]

BILLING CODE P